DEPARTMENT OF HEALTH AND HUMAN SERVICES

National Institutes of Health

National Institute of Neurological Disorders and Stroke; Amended Notice of Meeting

Notice is hereby given of a change in the meeting of the National Advisory Neurological Disorders and Stroke Council, September 8, 2004, 8 p.m. to September 8, 2004, 10 p.m. Hyatt Regency Bethesda, One Bethesda Metro Center, 7400 Wisconsin Avenue, Bethesda, MD 20814 which was published in the Federal Register on August 20, 2004, FR 69 04-19134.

The Infrastructure, Neuroinformatics and Computational Neuroscience Subcommittee to be held on September 8th will be open to the public from 8-9 p.m. and closed from 9-10 p.m. The meeting is partially Closed to the public.

Dated: August 30, 2004.
LaVerne Y. Stringfield,
Director, Office of Federal Advisory Committee Policy.

[FR Doc. 04-20433 Filed 9-8-04; 8:45 am]

BILLING CODE 4140-01-M